DEPARTMENT OF TRANSPORTATION

Federal Aviation Administration

14 CFR Part 39

[Docket No. 2003-NE-57-AD; Amendment 39-13798; AD 2004-19-04]

RIN 2120-AA64

Airworthiness Directives; Rolls-Royce plc RB211-22B, RB211-524, and RB211-535 Series Turbofan Engines

AGENCY: Federal Aviation Administration, DOT.

ACTION: Final rule; correction.

SUMMARY: This document makes a correction to Airworthiness Directive (AD) 2004-19-04. That AD applies to Rolls-Royce plc (RR) RB211-22B, RB211-524, and RB211-535 series turbofan engines. That AD was published in the Federal Register on September 22, 2004 (69 FR 56683). In the amendatory language, under § 39.13 [Amended], the amendment number for the AD was inadvertently omitted. This document corrects that omission. In all other respects, the original document remains the same.

EFFECTIVE DATE: Effective September 30, 2004.

FOR FURTHER INFORMATION CONTACT: Christopher Spinney, Aerospace Engineer, Engine Certification Office, FAA, Engine and Propeller Directorate, 12 New England Executive Park, Burlington, MA 01803-5299; telephone (781) 238-7175, fax (781) 238-7199.

SUPPLEMENTARY INFORMATION: A final rule AD, FR Doc. 04-21173 that applies to RR RB211-22B, RB211-524, and RB211-535 series turbofan engines, was published in the Federal Register on September 22, 2004 (69 FR 56683). The following correction is needed:

§ 39.13 [Corrected]

On page 56684, in the second column, under § 39.13 [Amended], in the fifth line, “2004-19-04 Rolls-Royce plc: Docket No.” is corrected to read “2004-19-04 Rolls-Royce plc: Amendment 39-13798. Docket No.”.

Issued in Burlington, MA, on September 23, 2004.
Francis A. Favara,
Acting Manager, Engine and Propeller Directorate, Aircraft Certification Service.

[FR Doc. 04-21912 Filed 9-29-04; 8:45 am]

BILLING CODE 4910-13-P